COMMITTEE FOR PURCHASE FROM PEOPLE WHO ARE BLIND OR SEVERELY DISABLED

Procurement List; Addition and Deletions

AGENCY: Committee for Purchase From People Who Are Blind or Severely Disabled.

ACTION: Addition to and deletions from the Procurement List.

SUMMARY: This action adds a service to the Procurement List that will be provided by nonprofit agency employing persons who are blind or have other severe disabilities, and deletes products and services from the Procurement List previously furnished by such agencies.

DATES: Effective Date: 11/6/2016.

ADDRESSES: Committee for Purchase From People Who Are Blind or Severely Disabled, 1401 S. Clark Street, Suite 715, Arlington, Virginia 22202-4149.

FOR FURTHER INFORMATION CONTACT: Patricia Briscoe, Telephone: (703) 603-7740, Fax: (703) 603-0655, or email CMTEFedReg@AbilityOne.gov.

SUPPLEMENTARY INFORMATION:

Addition

On 5/20/2016 (81 FR 31917-31918), the Committee for Purchase From People Who Are Blind or Severely Disabled published notice of proposed additions to the Procurement List.

After consideration of the material presented to it concerning capability of qualified nonprofit agency to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing small entities to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Warehouse Support Service

Service Mandatory For: Health and Human Services, Program Support Center, Supply Service Center, Perry Point, MD and North East, MD

Mandatory Source(s) of Supply: Didlake, Inc., Manassas, VA

Contracting Activity: Department of Health and Human Services, Perry Point, MD

Deletions

On 8/26/2016 (81 FR 58913-58917), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

8405-01-540-1280—Trousers, NWU, Men's, Blue Digital Camouflage, X-SMALL X-SHORT

8405-01-540-1318—Trousers, NWU, Men's, Blue Digital Camouflage, X-SMALL SHORT

8405-01-540-1328—Trousers, NWU, Men's, Blue Digital Camouflage, X-SMALL REGULAR

8405-01-540-1339—Trousers, NWU, Men's, Blue Digital Camouflage, X-SMALL LONG

8405-01-540-1350—Trousers, NWU, Men's, Blue Digital Camouflage, SMALL X-SHORT

8405-01-540-1356—Trousers, NWU, Men's, Blue Digital Camouflage, SMALL SHORT

8405-01-540-1363—Trousers, NWU, Men's, Blue Digital Camouflage, SMALL REGULAR

8405-01-540-1375—Trousers, NWU, Men's, Blue Digital Camouflage, SMALL X-LONG

8405-01-540-1430—Trousers, NWU, Men's, Blue Digital Camouflage, SMALL LONG

8405-01-540-1464—Trousers, NWU, Men's, Blue Digital Camouflage, LARGE XX-LONG

8405-01-540-1475—Trousers, NWU, Men's, Blue Digital Camouflage, X-LARGE XX-LONG

8405-01-540-1436—Trousers, NWU, Men's, Blue Digital Camouflage, MEDIUM X-SHORT

8405-01-540-1467—Trousers, NWU, Men's, Blue Digital Camouflage, X-LARGE SHORT

8405-01-540-1471—Trousers, NWU, Men's, Blue Digital Camouflage, X-LARGE REGULAR

8405-01-540-1446—Trousers, NWU, Men's, Blue Digital Camouflage, MEDIUM SHORT

8405-01-540-1447—Trousers, NWU, Men's, Blue Digital Camouflage, MEDIUM REGULAR

8405-01-540-1450—Trousers, NWU, Men's, Blue Digital Camouflage, MEDIUM LONG

8405-01-540-1451—Trousers, NWU, Men's, Blue Digital Camouflage, MEDIUM X-LONG

8405-01-540-1472—Trousers, NWU, Men's, Blue Digital Camouflage, X-LARGE LONG

8405-01-540-1473—Trousers, NWU, Men's, Blue Digital Camouflage, X-LARGE X-LONG

8405-01-540-1455—Trousers, NWU, Men's, Blue Digital Camouflage, MEDIUM XX-LONG

8405-01-540-1496—Trousers, NWU, Men's, Blue Digital Camouflage, XX-LARGE REGULAR

8405-01-540-1508—Trousers, NWU, Men's, Blue Digital Camouflage, XX-LARGE XX-LONG

8405-01-540-1458—Trousers, NWU, Men's, Blue Digital Camouflage, LARGE SHORT

8405-01-540-1459—Trousers, NWU, Men's, Blue Digital Camouflage, LARGE REGULAR

8405-01-540-1461—Trousers, NWU, Men's, Blue Digital Camouflage, LARGE LONG

8405-01-540-1462—Trousers, NWU, Men's, Blue Digital Camouflage, LARGE X-LONG

8405-01-540-1501—Trousers, NWU, Men's, Blue Digital Camouflage, XX-LARGE LONG

8405-01-540-1506—Trousers, NWU, Men's, Blue Digital Camouflage, XX-LARGE X-LONG

8405-01-573-8838—Trousers, NWU, Men's, Type II, Desert, X Large Regular

8405-01-573-8898—Trousers, NWU, Men's, Type II, Desert, X Large Long

8405-01-574-6613—Trousers, NWU, Men's, Type III, Woodland, Small Short

8405-01-574-6616—Trousers, NWU, Men's, Type III, Woodland, Small Regular

8405-01-590-7676—Trousers, NWU, Women's, Type II, Desert, 29 X Short

8405-01-590-7835—Trousers, NWU, Women's, Type III, Woodland, 37 Short

8405-01-573-8152—Trousers, NWU, Men's, Type II, Desert, X Small Short

8405-01-573-8399—Trousers, NWU, Men's, Type II, Desert, Medium Regular

8405-01-573-8370—Trousers, NWU, Men's, Type II, Desert, Medium Short

8405-01-573-8362—Trousers, NWU, Men's, Type II, Desert, Medium X Short

8405-01-573-8350—Trousers, NWU, Men's, Type II, Desert, Small Long

8405-01-573-8253—Trousers, NWU, Men's, Type II, Desert, Small X Long

8405-01-573-8244—Trousers, NWU, Men's, Type II, Desert, Small Regular

8405-01-573-8239—Trousers, NWU, Men's, Type II, Desert, Small Short

8405-01-573-8226—Trousers, NWU, Men's, Type II, Desert, Small X Short

8405-01-573-8216—Trousers, NWU, Men's, Type II, Desert, X Small Long

8405-01-573-8170—Trousers, NWU, Men's, Type II, Desert, X Small Regular

8405-01-573-8831—Trousers, NWU, Men's, Type II, Desert, X Large Short

8405-01-573-8443—Trousers, NWU, Men's, Type II, Desert, Large XX Long

8405-01-573-8439—Trousers, NWU, Men's, Type II, Desert, Large X Long

8405-01-573-8432—Trousers, NWU, Men's, Type II, Desert, Large Long

8405-01-573-8426—Trousers, NWU, Men's, Type II, Desert, Large Regular

8405-01-573-8421—Trousers, NWU, Men's, Type II, Desert, Large Short

8405-01-573-8417—Trousers, NWU, Men's, Type II, Desert, Medium XX Long

8405-01-573-8410—Trousers, NWU, Men's, Type II, Desert, Medium X Long

8405-01-573-8404—Trousers, NWU, Men's, Type II, Desert, Medium Long

8405-01-573-9066—Trousers, NWU, Men's, Type II, Desert, XX Large XX Long

8405-01-573-9065—Trousers, NWU, Men's, Type II, Desert, XX Large X Long

8405-01-573-9016—Trousers, NWU, Men's, Type II, Desert, XX Large Long

8405-01-573-9005—Trousers, NWU, Men's, Type II, Desert, XX Large Regular

8405-01-573-8987—Trousers, NWU, Men's, Type II, Desert, X Large XX Long

8405-01-573-8924—Trousers, NWU, Men's, Type II, Desert, X Large X Long

8405-01-573-7890—Trousers, NWU, Men's, Type II, Desert, X Small X Short

8405-01-574-6864—Trousers, NWU, Men's, Type III, Woodland, Medium Regular

8405-01-574-6879—Trousers, NWU, Men's, Type III, Woodland, Medium X Long

8405-01-574-6934—Trousers, NWU, Men's, Type III, Woodland, Large Short

8405-01-574-6948—Trousers, NWU, Men's, Type III, Woodland, Large Long

8405-01-574-7294—Trousers, NWU, Men's, Type III, Woodland, Large XX Long

8405-01-574-7747—Trousers, NWU, Men's, Type III, Woodland, X Large Regular

8405-01-574-8158—Trousers, NWU, Men's, Type III, Woodland, X Large XX Long

8405-01-574-8175—Trousers, NWU, Men's, Type III, Woodland, XX Large Long

8405-01-574-8189—Trousers, NWU, Men's, Type III, Woodland, XX Large XX Long

8405-01-574-6039—Trousers, NWU, Men's, Type III, Woodland, X Small X Short

8405-01-574-6047—Trousers, NWU, Men's, Type III, Woodland, X Small Short

8405-01-574-6588—Trousers, NWU, Men's, Type III, Woodland, X Small Regular

8405-01-574-6593—Trousers, NWU, Men's, Type III, Woodland, X Small Long

8405-01-574-6605—Trousers, NWU, Men's, Type III, Woodland, Small X Short

8405-01-574-6720—Trousers, NWU, Men's, Type III, Woodland, Small X Long

8405-01-574-6836—Trousers, NWU, Men's, Type III, Woodland, Small Long

8405-01-574-6841—Trousers, NWU, Men's, Type III, Woodland, Medium X Short

8405-01-574-6852—Trousers, NWU, Men's, Type III, Woodland, Medium Short

8405-01-574-6868—Trousers, NWU, Men's, Type III, Woodland, Medium Long

8405-01-574-6896—Trousers, NWU, Men's, Type III, Woodland, Medium XX Long

8405-01-574-6944—Trousers, NWU, Men's, Type III, Woodland, Large Regular

8405-01-574-7016—Trousers, NWU, Men's, Type III, Woodland, Large X Long

8405-01-574-7301—Trousers, NWU, Men's, Type III, Woodland, X Large Short

8405-01-574-7750—Trousers, NWU, Men's, Type III, Woodland, X Large Long

8405-01-574-7764—Trousers, NWU, Men's, Type III, Woodland, X Large X Long

8405-01-574-8168—Trousers, NWU, Men's, Type III, Woodland, XX Large Regular

8405-01-574-8184—Trousers, NWU, Men's, Type III, Woodland, XX Large X Long

8405-01-590-7671—Trousers, NWU, Women's, Type II, Desert, 25 X Short

8405-01-590-7672—Trousers, NWU, Women's, Type II, Desert, 25 Short

8405-01-590-7679—Trousers, NWU, Women's, Type II, Desert, 29 Short

8405-01-590-7681—Trousers, NWU, Women's, Type II, Desert, 29 Regular

8405-01-590-7682—Trousers, NWU, Women's, Type II, Desert, 33 X Short

8405-01-590-7699—Trousers, NWU, Women's, Type II, Desert, 33 Short

8405-01-590-7726—Trousers, NWU, Women's, Type II, Desert, 33 Regular

8405-01-590-7747—Trousers, NWU, Women's, Type II, Desert, 37 Short

8405-01-590-7755—Trousers, NWU, Women's, Type II, Desert, 37 Regular

8405-01-590-7795—Trousers, NWU, Women's, Type III, Woodland, 29 X Short

8405-01-590-7771—Trousers, NWU, Women's, Type III, Woodland, 25 X Short

8405-01-590-7775—Trousers, NWU, Women's, Type III, Woodland, 25 Short

8405-01-590-7811—Trousers, NWU, Women's, Type III, Woodland, 29 Short

8405-01-590-7822—Trousers, NWU, Women's, Type III, Woodland, 33 X Short

8405-01-590-7819—Trousers, NWU, Women's, Type III, Woodland, 29 Regular

8405-01-590-7827—Trousers, NWU, Women's, Type III, Woodland, 33 Short

8405-01-590-7832—Trousers, NWU, Women's, Type III, Woodland, 33 Regular

8405-01-590-7837—Trousers, NWU, Women's, Type III, Woodland, 37 Regular

8405-01-540-1554—Trousers, NWU, Women's, Blue Digital Camouflage, 37 REGULAR

8405-01-540-1532—Trousers, NWU, Women's, Blue Digital Camouflage, 33 X-SHORT

8405-01-540-1549—Trousers, NWU, Women's, Blue Digital Camouflage, 37 SHORT

8405-01-540-1544—Trousers, NWU, Women's, Blue Digital Camouflage, 33 REGULAR

8405-01-540-1511—Trousers, NWU, Women's, Blue Digital Camouflage, 25 X-SHORT

8405-01-540-1513—Trousers, NWU, Women's, Blue Digital Camouflage, 25 SHORT

8405-01-540-1540—Trousers, NWU, Women's, Blue Digital Camouflage, 33 SHORT

8405-01-540-1527—Trousers, NWU, Women's, Blue Digital Camouflage, 29 REGULAR

8405-01-540-1522—Trousers, NWU, Women's, Blue Digital Camouflage, 29 SHORT

8405-01-540-1521—Trousers, NWU, Women's, Blue Digital Camouflage, 29 X-SHORT

Mandatory Source(s) of Supply: Goodwill Industries of South Florida, Inc., Miami, FL

Contracting Activity: Defense Logistics Agency Troop Support

NSN(s)—Product Name(s):

8405-01-540-1280—Trousers, NWU, Men's, Blue Digital Camouflage, X-SMALL X-SHORT

8405-01-540-1318—Trousers, NWU, Men's, Blue Digital Camouflage, X-SMALL SHORT

8405-01-540-1328—Trousers, NWU, Men's, Blue Digital Camouflage, X-SMALL REGULAR

8405-01-540-1339—Trousers, NWU, Men's, Blue Digital Camouflage, X-SMALL LONG

8405-01-540-1350—Trousers, NWU, Men's, Blue Digital Camouflage, SMALL X-SHORT

8405-01-540-1356—Trousers, NWU, Men's, Blue Digital Camouflage, SMALL SHORT

8405-01-540-1363—Trousers, NWU, Men's, Blue Digital Camouflage, SMALL REGULAR

8405-01-540-1375—Trousers, NWU, Men's, Blue Digital Camouflage, SMALL X-LONG

8405-01-540-1430—Trousers, NWU, Men's, Blue Digital Camouflage, SMALL LONG

8405-01-540-1464—Trousers, NWU, Men's, Blue Digital Camouflage, LARGE XX-LONG

8405-01-540-1475—Trousers, NWU, Men's, Blue Digital Camouflage, X-LARGE XX-LONG

8405-01-540-1436—Trousers, NWU, Men's, Blue Digital Camouflage, MEDIUM X-SHORT

8405-01-540-1467—Trousers, NWU, Men's, Blue Digital Camouflage, X-LARGE SHORT

8405-01-540-1471—Trousers, NWU, Men's, Blue Digital Camouflage, X-LARGE REGULAR

8405-01-540-1446—Trousers, NWU, Men's, Blue Digital Camouflage, MEDIUM SHORT

8405-01-540-1447—Trousers, NWU, Men's, Blue Digital Camouflage, MEDIUM REGULAR

8405-01-540-1450—Trousers, NWU, Men's, Blue Digital Camouflage, MEDIUM LONG

8405-01-540-1451—Trousers, NWU, Men's, Blue Digital Camouflage, MEDIUM X-LONG

8405-01-540-1472—Trousers, NWU, Men's, Blue Digital Camouflage, X-LARGE LONG

8405-01-540-1473—Trousers, NWU, Men's, Blue Digital Camouflage, X-LARGE X-LONG

8405-01-540-1455—Trousers, NWU, Men's, Blue Digital Camouflage, MEDIUM XX-LONG

8405-01-540-1496—Trousers, NWU, Men's, Blue Digital Camouflage, XX-LARGE REGULAR

8405-01-540-1508—Trousers, NWU, Men's, Blue Digital Camouflage, XX-LARGE XX-LONG

8405-01-540-1458—Trousers, NWU, Men's, Blue Digital Camouflage, LARGE SHORT

8405-01-540-1459—Trousers, NWU, Men's, Blue Digital Camouflage, LARGE REGULAR

8405-01-540-1461—Trousers, NWU, Men's, Blue Digital Camouflage, LARGE LONG

8405-01-540-1462—Trousers, NWU, Men's, Blue Digital Camouflage, LARGE X-LONG

8405-01-540-1501—Trousers, NWU, Men's, Blue Digital Camouflage, XX-LARGE LONG

8405-01-540-1506—Trousers, NWU, Men's, Blue Digital Camouflage, XX-LARGE X-LONG

8405-01-573-8838—Trousers, NWU, Men's, Type II, Desert, X Large Regular

8405-01-573-8898—Trousers, NWU, Men's, Type II, Desert, X Large Long

8405-01-574-6613—Trousers, NWU, Men's, Type III, Woodland, Small Short

8405-01-574-6616—Trousers, NWU, Men's, Type III, Woodland, Small Regular

8405-01-590-7676—Trousers, NWU, Women's, Type II, Desert, 29 X Short

8405-01-590-7835—Trousers, NWU, Women's, Type III, Woodland, 37 Short

8405-01-573-8152—Trousers, NWU, Men's, Type II, Desert, X Small Short

8405-01-573-8399—Trousers, NWU, Men's, Type II, Desert, Medium Regular

8405-01-573-8370—Trousers, NWU, Men's, Type II, Desert, Medium Short

8405-01-573-8362—Trousers, NWU, Men's, Type II, Desert, Medium X Short

8405-01-573-8350—Trousers, NWU, Men's, Type II, Desert, Small Long

8405-01-573-8253—Trousers, NWU, Men's, Type II, Desert, Small X Long

8405-01-573-8244—Trousers, NWU, Men's, Type II, Desert, Small Regular

8405-01-573-8239—Trousers, NWU, Men's, Type II, Desert, Small Short

8405-01-573-8226—Trousers, NWU, Men's, Type II, Desert, Small X Short

8405-01-573-8216—Trousers, NWU, Men's, Type II, Desert, X Small Long

8405-01-573-8170—Trousers, NWU, Men's, Type II, Desert, X Small Regular

8405-01-573-8831—Trousers, NWU, Men's, Type II, Desert, X Large Short

8405-01-573-8443—Trousers, NWU, Men's, Type II, Desert, Large XX Long

8405-01-573-8439—Trousers, NWU, Men's, Type II, Desert, Large X Long

8405-01-573-8432—Trousers, NWU, Men's, Type II, Desert, Large Long

8405-01-573-8426—Trousers, NWU, Men's, Type II, Desert, Large Regular

8405-01-573-8421—Trousers, NWU, Men's, Type II, Desert, Large Short

8405-01-573-8417—Trousers, NWU, Men's, Type II, Desert, Medium XX Long

8405-01-573-8410—Trousers, NWU, Men's, Type II, Desert, Medium X Long

8405-01-573-8404—Trousers, NWU, Men's, Type II, Desert, Medium Long

8405-01-573-9066—Trousers, NWU, Men's, Type II, Desert, XX Large XX Long

8405-01-573-9065—Trousers, NWU, Men's, Type II, Desert, XX Large X Long

8405-01-573-9016—Trousers, NWU, Men's, Type II, Desert, XX Large Long

8405-01-573-9005—Trousers, NWU, Men's, Type II, Desert, XX Large Regular

8405-01-573-8987—Trousers, NWU, Men's, Type II, Desert, X Large XX Long

8405-01-573-8924—Trousers, NWU, Men's, Type II, Desert, X Large X Long

8405-01-573-7890—Trousers, NWU, Men's, Type II, Desert, X Small X Short

8405-01-574-6864—Trousers, NWU, Men's, Type III, Woodland, Medium Regular

8405-01-574-6879—Trousers, NWU, Men's, Type III, Woodland, Medium X Long

8405-01-574-6934—Trousers, NWU, Men's, Type III, Woodland, Large Short

8405-01-574-6948—Trousers, NWU, Men's, Type III, Woodland, Large Long

8405-01-574-7294—Trousers, NWU, Men's, Type III, Woodland, Large XX Long

8405-01-574-7747—Trousers, NWU, Men's, Type III, Woodland, X Large Regular

8405-01-574-8158—Trousers, NWU, Men's, Type III, Woodland, X Large XX Long

8405-01-574-8175—Trousers, NWU, Men's, Type III, Woodland, XX Large Long

8405-01-574-8189—Trousers, NWU, Men's, Type III, Woodland, XX Large XX Long

8405-01-574-6039—Trousers, NWU, Men's, Type III, Woodland, X Small X Short

8405-01-574-6047—Trousers, NWU, Men's, Type III, Woodland, X Small Short

8405-01-574-6588—Trousers, NWU, Men's, Type III, Woodland, X Small Regular

8405-01-574-6593—Trousers, NWU, Men's, Type III, Woodland, X Small Long

8405-01-574-6605—Trousers, NWU, Men's, Type III, Woodland, Small X Short

8405-01-574-6720—Trousers, NWU, Men's, Type III, Woodland, Small X Long

8405-01-574-6836—Trousers, NWU, Men's, Type III, Woodland, Small Long

8405-01-574-6841—Trousers, NWU, Men's, Type III, Woodland, Medium X Short

8405-01-574-6852—Trousers, NWU, Men's, Type III, Woodland, Medium Short

8405-01-574-6868—Trousers, NWU, Men's, Type III, Woodland, Medium Long

8405-01-574-6896—Trousers, NWU, Men's, Type III, Woodland, Medium XX Long

8405-01-574-6944—Trousers, NWU, Men's, Type III, Woodland, Large Regular

8405-01-574-7016—Trousers, NWU, Men's, Type III, Woodland, Large X Long

8405-01-574-7301—Trousers, NWU, Men's, Type III, Woodland, X Large Short

8405-01-574-7750—Trousers, NWU, Men's, Type III, Woodland, X Large Long

8405-01-574-7764—Trousers, NWU, Men's, Type III, Woodland, X Large X Long

8405-01-574-8168—Trousers, NWU, Men's, Type III, Woodland, XX Large Regular

8405-01-574-8184—Trousers, NWU, Men's, Type III, Woodland, XX Large X Long

8405-01-590-7671—Trousers, NWU, Women's, Type II, Desert, 25 X Short

8405-01-590-7672—Trousers, NWU, Women's, Type II, Desert, 25 Short

8405-01-590-7679—Trousers, NWU, Women's, Type II, Desert, 29 Short

8405-01-590-7681—Trousers, NWU, Women's, Type II, Desert, 29 Regular

8405-01-590-7682—Trousers, NWU, Women's, Type II, Desert, 33 X Short

8405-01-590-7699—Trousers, NWU, Women's, Type II, Desert, 33 Short

8405-01-590-7726—Trousers, NWU, Women's, Type II, Desert, 33 Regular

8405-01-590-7747—Trousers, NWU, Women's, Type II, Desert, 37 Short

8405-01-590-7755—Trousers, NWU, Women's, Type II, Desert, 37 Regular

8405-01-590-7795—Trousers, NWU, Women's, Type III, Woodland, 29 X Short

8405-01-590-7771—Trousers, NWU, Women's, Type III, Woodland, 25 X Short

8405-01-590-7775—Trousers, NWU, Women's, Type III, Woodland, 25 Short

8405-01-590-7811—Trousers, NWU, Women's, Type III, Woodland, 29 Short

8405-01-590-7822—Trousers, NWU, Women's, Type III, Woodland, 33 X Short

8405-01-590-7819—Trousers, NWU, Women's, Type III, Woodland, 29 Regular

8405-01-590-7827—Trousers, NWU, Women's, Type III, Woodland, 33 Short

8405-01-590-7832—Trousers, NWU, Women's, Type III, Woodland, 33 Regular

8405-01-590-7837—Trousers, NWU, Women's, Type III, Woodland, 37 Regular

8405-01-540-1554—Trousers, NWU, Women's, Blue Digital Camouflage, 37 Regular

8405-01-540-1532—Trousers, NWU, Women's, Blue Digital Camouflage, 33 X-Short

8405-01-540-1549—Trousers, NWU, Women's, Blue Digital Camouflage, 37 Short

8405-01-540-1544—Trousers, NWU, Women's, Blue Digital Camouflage, 33 Regular

8405-01-540-1511—Trousers, NWU, Women's, Blue Digital Camouflage, 25 X-Short

8405-01-540-1513—Trousers, NWU, Women's, Blue Digital Camouflage, 25 Short

8405-01-540-1540—Trousers, NWU, Women's, Blue Digital Camouflage, 33 Short

8405-01-540-1527—Trousers, NWU, Women's, Blue Digital Camouflage, 29 Regular

8405-01-540-1522—Trousers, NWU, Women's, Blue Digital Camouflage, 29 Short

8405-01-540-1521—Trousers, NWU, Women's, Blue Digital Camouflage, 29 X-Short

Mandatory Source(s) of Supply: ReadyOne Industries, Inc., El Paso, TX

Contracting Activity: Defense Logistics Agency Troop Support

Services

Service Type: CD-ROM Replication—Program 5588-S

Mandatory for: Government Printing Office: Program 5588-S, U.S. Government Publishing Office, Columbus, OH

Mandatory Source(s) of Supply: Association for the Blind and Visually Impaired—Goodwill Industries of Greater Rochester, Rochester, NY

Contracting Activity: Government Printing Office

Service Type: CD-ROM Replication—Program A890-M

Mandatory for: Government Printing Office, NW., 710 North Capitol & H Street NW., Washington, DC

Mandatory Source(s) of Supply: Association for the Blind and Visually Impaired—Goodwill Industries of Greater Rochester, Rochester, NY

Contracting Activity: Government Printing Office

Service Type: CD-ROM Replication—Program 2239S

Mandatory for: Government Printing Office: Philadelphia Regional Printing Procurement Office, Southhampton, PA

Mandatory Source(s) of Supply: Association for the Blind and Visually Impaired—Goodwill Industries of Greater Rochester, Rochester, NY

Contracting Activity: Government Printing Office

Service Type: Administrative/General Support Service

Mandatory for: GSA, Southwest Supply Center, 819 Taylor Street, Fort Worth, TX

Mandatory Source(s) of Supply: Tarrant County Association for the Blind, Fort Worth, TX

Contracting Activity: General Services Administration, FPDS Agency Coordinator

Service Type: Employment Placement Service

Mandatory for: Defense Logistics Agency: National Human Resource, Offices (HRO), Locations—Columbus, OH; Richmond, VA; Fort Belvoir, VA

Mandatory Source(s) of Supply: Virginia Industries for the Blind, Charlottesville, VA

Contracting Activity: Defense Logistics Agency Support Services

Service Type: Mailroom Operation

Mandatory for: Department of Housing and Urban Development, 600 E. Broad St., Richmond, VA

Mandatory Source(s) of Supply: Virginia Industries for the Blind, Charlottesville, VA

Contracting Activity: Department of Health And Human Services

Service Type: Administrative/General Support Service

Mandatory for: GSA, Northeast Distribution Center, Federal Supply Service (3FS), Burlington, NJ

Mandatory Source(s) of Supply: Bestwork Industries for the Blind, Inc., Cherry Hill, NJ

Contracting Activity: General Services Administration, FPDS Agency Coordinator

Service Type: Mattress Resizing

Mandatory for: Defense Supply Center Philadelphia, Philadelphia, PA

Mandatory Source(s) of Supply: LC Industries, Inc., Durham, NC

Contracting Activity: Defense Logistics Agency Troop Support

Service Type: Mailroom Operation

Mandatory for: McCoy Federal Building, 100 W. Capitol St., Jackson, MS

Mandatory Source(s) of Supply: Mississippi Industries for the Blind, Jackson, MS

Contracting Activity: Dept of Housing and Urban Development

Service Type: Order Processing Service

Mandatory for: National Institute of Health, 31 Center Dr., Bethesda, MD

Mandatory Source(s) of Supply: Blind Industries & Services of Maryland, Baltimore, MD

Contracting Activity: Department of Health and Human Services

Service Type: Administrative Service

Mandatory for: GSA, Federal Supply Service Bureau: Service Acquisition Center, Arlington, VA

Mandatory Source(s) of Supply: Virginia Industries for the Blind, Charlottesville, VA

Contracting Activity: General Services Administration, FPDS Agency Coordinator

Service Type: Administrative Service

Mandatory for: GSA, Federal Supply Service Bureau: Fleet Management Division, Washington, DC

Mandatory Source(s) of Supply: Virginia Industries for the Blind, Charlottesville, VA

Contracting Activity: General Services Administration, FPDS Agency Coordinator

Service Type: Customer Service Representatives

Mandatory for: GSA, Springfield: Customer Supply and Industrial Products Center, Springfield, VA

Mandatory Source(s) of Supply: Virginia Industries for the Blind, Charlottesville, VA

Contracting Activity: General Services Administration, FPDS Agency Coordinator

Service Type: Customer Service Representatives

Mandatory for: GSA, Springfield: Customer Supply and Industrial Products Center, GSA Franconia Bldg. A, Springfield, VA

Mandatory Source(s) of Supply: Virginia Industries for the Blind, Charlottesville, VA

Contracting Activity: General Services Administration, FPDS Agency Coordinator

Service Type: Storage, Handling & Distribution of CLI Promotion

Mandatory for: Environmental Protection Agency: 1200 Pennsylvania Avenue NW., Washington, DC

Mandatory Source(s) of Supply: Virginia Industries for the Blind, Charlottesville, VA

Contracting Activity: U.S. Environmental Protection Agency

Service Type: Administrative/General Support Services

Mandatory for: GSA, Southwest Supply Center: 819 Taylor Street, Fort Worth, TX

Mandatory Source(s) of Supply: East Texas Lighthouse for the Blind, Tyler, TX

Contracting Activity: General Services Administration, FPDS Agency Coordinator

Patricia Briscoe,
Deputy Director, Business Operations, (Pricing and Information Management).

[FR Doc. 2016-24364 Filed 10-6-16; 8:45 am]

BILLING CODE 6353-01-P